FEDERAL COMMUNICATIONS COMMISSION

[OMB 3060-1113; FR ID 212430]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before June 10, 2024. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-1113.

Title: Election Whether to Participate in the Wireless Emergency Alerts.

Form Number: N/A.

Type of Review: Revision of a currently approved collection.

Respondents: Business or other for-profit; Not-for-profit institutions; State, Local or Tribal Government.

Number of Respondents and Responses: 1,253 respondents; 5,176 responses.

Estimated Time per Response: 0.50-12 hours.

Frequency of Response: On occasion and semi-annual reporting requirements.

Obligation to Respond: Required to obtain or retain benefits. Statutory authority for this collection is contained in 47 U.S.C. 151, 152, 154, 301, 303, 307, 309, 403, and 606, of the Communications Act of 1934, as amended, and 1201, 1203, 1204, and 1206 of the Warning Alert and Response Network Acts.

Total Annual Burden: 106,943 hours.

Total Annual Cost: $ 7,050,800.

Needs and Uses: This modification to an existing collection will require all CMS providers to file their election regarding participation in the WEA system by submitting the information to an FCC-created and maintained WEA database that will be accessible to the FCC, FEMA, alerting authorities and the public. This will refresh CMS provider WEA-elections that were last required over a decade ago and provide a single source of information on WEA availability. The modifications proposed herein will also provide WEA messages to be made available by Participating CMS providers in English and the 13 most commonly spoken languages in the U.S., as well as American Sign Language. This will make these alerts available for the first time to the millions of Americans who are not native English speakers and to our hearing impaired population.

Federal Communications Commission.
Marlene Dortch,
Secretary, Office of the Secretary.

[FR Doc. 2024-07427 Filed 4-8-24; 8:45 am]

BILLING CODE 6712-01-P